SUSQUEHANNA RIVER BASIN COMMISSION

General Permit Notice

AGENCY: Susquehanna River Basin Commission.

ACTION: Notice.

SUMMARY: This notice lists General Permits approved by the Susquehanna River Basin Commission during the period set forth in DATES.

DATES: July 1-31, 2024

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.gov. Regular mail inquiries may be sent to the above address.

SUPPLEMENTARY INFORMATION: This notice lists General Permits for projects, described below, pursuant to 18 CFR 806.17(c)(4), for the time period specified above.

1. Furman Foods, Inc., dba Furmano's—Well 9, General Permit Approval of Coverage No. GP-02-20240707, Point Township, Northumberland County, Pa.; emergency or maintenance activity groundwater withdrawal approved up to 0.504 mgd (30-day average) Approval Date: July 16, 2024.

Authority: Public Law 91-575, 84 Stat. 1509 et seq., 18 CFR parts 806 and 808.

Dated: August 9, 2024.
Jason E. Oyler,
General Counsel and Secretary to the Commission.

[FR Doc. 2024-18129 Filed 8-13-24; 8:45 am]

BILLING CODE 7040-01-P